DEPARTMENT OF ENERGY

Federal Energy Regulatory Commission

Combined Notice of Filings #1

Take notice that the Commission received the following electric rate filings:

Docket Numbers: ER18-1618-001.

Applicants: Arizona Public Service Company.

Description: Compliance filing: Primary Frequency Response Compliance Filing to be effective 5/15/2018.

Filed Date: 9/19/18.

Accession Number: 20180919-5066.

Comments Due: 5 p.m. ET 10/10/18.

Docket Numbers: ER18-1969-001.

Applicants: Southwest Power Pool, Inc.

Description: Compliance filing: 3388R1 East River/Otter Tail/MISO Int Agr Compliance Filing to be effective 9/17/2018.

Filed Date: 9/19/18.

Accession Number: 20180919-5008.

Comments Due: 5 p.m. ET 10/10/18.

Docket Numbers: ER18-2073-002.

Applicants: Midcontinent Independent System Operator, Inc.

Description: Tariff Amendment: 2018-09-19_SA 3134 ETI-Liberty County Solar Project GIA (J483) 2nd Amendment to be effective 7/13/2018.

Filed Date: 9/19/18.

Accession Number: 20180919-5125.

Comments Due: 5 p.m. ET 10/10/18.

Docket Numbers: ER18-2074-000.

Applicants: AEP Texas Inc.

Description: Report Filing: AEPTX-Pedernales EC TSA—Amend & Restated—Supplement to be effective N/A.

Filed Date: 9/18/18.

Accession Number: 20180918-5054.

Comments Due: 5 p.m. ET 10/9/18.

Docket Numbers: ER18-2449-000.

Applicants: Midcontinent Independent System Operator, Inc., ALLETE, Inc.

Description: § 205(d) Rate Filing: 2018-09-18_SA 3167 Enbridge-SWL&P Facilities Reimbursement Agrmt (Nemadji) to be effective 9/19/2018.

Filed Date: 9/18/18.

Accession Number: 20180918-5080.

Comments Due: 5 p.m. ET 10/9/18.

Docket Numbers: ER18-2450-000.

Applicants: Basin Electric Power Cooperative, Southwest Power Pool, Inc.

Description: § 205(d) Rate Filing: Basin Electric Power Cooperative Formula Rate Revisions to be effective 1/1/2017.

Filed Date: 9/18/18.

Accession Number: 20180918-5092.

Comments Due: 5 p.m. ET 10/9/18.

Docket Numbers: ER18-2451-000.

Applicants: Lockhart Power Company.

Description: Application for Reclassification as a Category 1 Seller of Lockhart Power Company.

Filed Date: 9/18/18.

Accession Number: 20180918-5114.

Comments Due: 5 p.m. ET 10/9/18.

Docket Numbers: ER18-2452-000.

Applicants: National Choice Energy LLC.

Description: Notice of Cancellation of MBR tariff of National Choice Energy LLC.

Filed Date: 9/18/18.

Accession Number: 20180918-5124.

Comments Due: 5 p.m. ET 10/9/18.

Docket Numbers: ER18-2453-000.

Applicants: Mid-Atlantic Interstate Transmission, LLC, PJM Interconnection, L.L.C.

Description: § 205(d) Rate Filing: MAIT submits five ECSAs, Service Agreement Nos. 5001, 5002, 5003, 5004, and 5005 to be effective 11/19/2018.

Filed Date: 9/19/18.

Accession Number: 20180919-5060.

Comments Due: 5 p.m. ET 10/10/18.

Docket Numbers: ER18-2454-000.

Applicants: Central Maine Power Company.

Description: § 205(d) Rate Filing: Executed Engineering and Procurement Agreement with Three Corners Solar, LLC to be effective 11/19/2018.

Filed Date: 9/19/18.

Accession Number: 20180919-5101.

Comments Due: 5 p.m. ET 10/10/18.

Take notice that the Commission received the following electric reliability filings:

Docket Numbers: RR18-10-000.

Applicants: North American Electric Reliability Corporation.

Description: Petition of the North American Electric Reliability Corporation for Approval of Amendments to the Western Electricity Coordinating Council Bylaws.

Filed Date: 9/18/18.

Accession Number: 20180918-5104.

Comments Due: 5 p.m. ET 10/9/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 19, 2018.
Nathaniel J. Davis, Sr.,
Deputy Secretary.

[FR Doc. 2018-20889 Filed 9-25-18; 8:45 am]

BILLING CODE 6717-01-P